INTERNATIONAL TRADE COMMISSION

[Investigations Nos. 701-TA-376, 377, & 379 and 731-TA-788-793 (Review)]

Certain Stainless Steel Plate From Belgium, Canada, Italy, Korea, South Africa, and Taiwan

AGENCY: United States International Trade Commission.

ACTION: Revised schedule for the subject reviews.

EFFECTIVE DATE: January 21, 2005.

FOR FURTHER INFORMATION CONTACT: Debra Baker (202-205-3180) or Douglas Corkran (202-205-3057), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for these reviews may be viewed on the Commission's electronic docket (EDIS) at http://edis.usitc.gov.

SUPPLEMENTARY INFORMATION: Effective August 26, 2004, the Commission established a schedule for the conduct of the subject reviews (69 FR 53946, September 3, 2004). Subsequently, counsel for domestic interested parties requested that the Commission reschedule its hearing from Tuesday, March 29 to Wednesday, March 30, 2005, to avoid travel during a holiday period.¹ Counsel suggested no other change to the schedule. In light of the justification provided by counsel, and absent objection from any other party, the Commission is revising its schedule. The Commission's hearing will be held at the U.S. International Trade Commission Building at 9:30 a.m. on March 30, 2005. The Commission's original schedule is otherwise unchanged.

¹ Letter from Collier Shannon Scott, filed on behalf of Allegheny Ludlum Corp., North American Stainless, AK Steel Corp., the United Steelworkers of America, AFL-CIO/CLC, the Local 3303 United Auto Workers (formerly the Butler Armco Independent Union), and the Zanesville Armco Independent Organization, Inc., dated December 20, 2004.

For further information concerning these reviews see the Commission's notice cited above and the Commission's Rules of Practice and Procedure, part 201, subparts A through E (19 CFR part 201), and part 207, subparts A and C (19 CFR part 207).

Authority: These reviews are being conducted under authority of title VII of the Tariff Act of 1930; this notice is published pursuant to section 207.21 of the Commission's rules.

Issued: January 21, 2005.
By order of the Commission.
Marilyn R. Abbott,
Secretary to the Commission.

[FR Doc. 05-1488 Filed 1-26-05; 8:45 am]

BILLING CODE 7020-02-P